BROADCASTING BOARD OF GOVERNORS

Sunshine Act Meeting

DATE AND TIME: Thursday, September 15, 2011. 9:45 a.m.

PLACE: Broadcasting Board of Governors, Cohen Building, Room 3321, 330 Independence Ave., SW., Washington, DC 20237.

SUBJECT: Notice of Closed Meeting of the Broadcasting Board of Governors.

SUMMARY: At the time and location listed above, the Broadcasting Board of Governors (BBG) will conduct a meeting closed to the public pursuant to 5 U.S.C. 552b(c)(9)(B) because, according to Office of Management and Budget Circular A-11, Section 36, public knowledge of a draft Presidential budget could lead to frustration of a proposed agency action. The BBG will receive and consider staff recommendations regarding the Fiscal Year 2013 budget.

MEMBERS VOTE TO CLOSE THE MEETING:

Walter Isaacson—Yes

Victor Ashe—No

Susan McCue—Yes

Michael Lynton—Yes

Michael Meehan—Yes

Dennis Mulhaupt—Yes

Dana Perino—Did not vote

S. Enders Wimbush—Yes

Ann Stock, Acting Under Secretary for Public Diplomacy and Public Affairs—Yes

TO BE IN ATTENDANCE:

Walter Isaacson, BBG Chairman

Victor Ashe, BBG Member

Susan McCue, BBG Member (via telephone)

Michael Meehan, BBG Member

Dennis Mulhaupt, BBG Member

Dana Perino, BBG Member

Richard Lobo, Director of the International Broadcasting Bureau

Jeffrey Trimble, BBG Executive Director

Maryjean Buhler, BBG Chief Financial Officer

Paul Kollmer-Dorsey, BBG Deputy General Counsel and Board Secretary

Lynne Weil, Senior Advisor to the Under Secretary for Public Diplomacy and Public Affairs

Oanh Tran, BBG Special Projects Officer

FOR FURTHER INFORMATION CONTACT: Persons interested in obtaining more information should contact Paul Kollmer-Dorsey at (202) 203-4545.

Paul Kollmer-Dorsey,
Deputy General Counsel and Board Secretary.

[FR Doc. 2011-23212 Filed 9-7-11; 4:15 pm]

BILLING CODE 8610-01-P